DEPARTMENT OF COMMERCE

International Trade Administration

[A-533-809]

Certain Stainless Steel Flanges From India: Extension of Time Limit for Preliminary Results of New Shipper Review

AGENCY: Import Administration, International Trade Administration, Department of Commerce.

ACTION: Extension of Time Limit For Preliminary Results of New Shipper Review.

SUMMARY: The Department of Commerce (the Department) is extending the time limit for the preliminary results of a new shipper review of certain stainless steel flanges from India. This review covers one Indian exporter, Bhansali Ferromet Pvt. Ltd., and the period August 1, 1998 through July 31, 1999.

EFFECTIVE DATE: June 14, 2000.

FOR FURTHER INFORMATION CONTACT: Thomas Killiam or Robert James, AD/CVD Enforcement, Import Administration, International Trade Administration, U.S. Department of Commerce, 14th Street and Constitution Avenue, NW., Washington DC 20230; telephone: (202) 482-5222, or (202) 482-0649, respectively.

Applicable Statute

Unless otherwise indicated, all citations to the statute refer to the provisions effective January 1, 1995, the effective date of the amendments made to the Tariff Act of 1930 (the Act) by the Uruguay Round Agreements Act. In addition, all citations to the Department's regulations are to the current regulations, codified at 19 CFR Part 351 (1999).

Background

Based on a request from Bhansali, and pursuant to section 351.214, on February 17, 2000 the Department published a notice of initiation of a new shipper review of the antidumping duty order on certain stainless steel flanges from India, covering the period August 1, 1998 through July 31, 1999 ( 65 FR 8120). The preliminary results are currently due no later than June 7, 2000.

Postponement of Preliminary Results

The Department has determined that the issues of this case are extraordinarily complicated and it is not practicable to issue the preliminary results of the new shipper review within the original time limit of June 7, 2000. See Memorandum from Richard A. Weible to Joseph A. Spetrini, Deputy Assistant Secretary, Enforcement Group III, June 7, 2000. Accordingly, the Department is extending the time limit for completion of the preliminary results until September 5, 2000, in accordance with section 751(a)(2)(B)(iv) of the Act and 351.214(i)(2) of the Department's regulations. The deadline for the final results of this review will continue to be 90 days after the signature date of the preliminary results.

Dated: June 7, 2000.
Joseph A. Spetrini,
Deputy Assistant Secretary, AD/CVD Enforcement Group III.

[FR Doc. 00-15051 Filed 6-13-00; 8:45 am]

BILLING CODE 3510-DS-P